DEPARTMENT OF HEALTH AND HUMAN SERVICES

Substance Abuse and Mental Health Services Administration

Advisory Committee for Women's Services; Notice of Meeting

Pursuant to Public Law 92-463, notice is hereby given of a meeting of the Substance Abuse and Mental Health Services Administration's (SAMHSA) Advisory Committee for Women's Services (ACWS) on September 11-12 at the Town and Country Convention Center in San Diego, California.

The meeting is open to the public. It will include a report from the Associate Administrator for Women's Services and Chair of the ACWS, Updates from ACWS members, and updates of SAMHSA's strategic initiatives. The meeting will also include a listening session on women and trauma.

Attendance by the public will be limited to space available. Public comments are welcome. The meeting can be accessed via live webcast. To obtain the access information, to register, to submit written or brief oral comments, or to request special accommodations for persons with disabilities, please register at the SAMHSA Committee's Web site at https://nac.samhsa.gov/Registration/meetingsRegistration.aspx or communicate with the Designated Federal Officer for the ACWS, Ms. Nevine Gahed (see contact information below).

Substantive meeting information and a roster of Committee members may be obtained either by accessing the SAMHSA Committee's Web site at https://nac.samhsa.gov/WomenServices/index.aspx, or by contacting Ms. Gahed. The transcript for the meeting will be available on the SAMHSA Committee's Web site within three weeks after the meeting.

Committee Name: SAMHSA's Advisory Committee for Women's Services.

Date/Time/Type: Sunday, September 11, 2010 from 9 a.m. to 12 noon PDT: OPEN; Monday, September 12, 2010 from 12 noon to 5 p.m. PDT: OPEN.

Place: Town and Country Resort & Convention Center, 500 Hotel Circle North, San Diego, CA 92108.

Contact: Nevine Gahed, Designated Federal Officer, SAMHSA's Advisory Committee for Women's Services, 1 Choke Cherry Road, Room 8-1016, Rockville, Maryland 20857, Telephone: (240) 276-2331; FAX: (240) 276-2220 and E-mail: nevine.gahed@samhsa.hhs.gov.

Dated: August 20, 2010.
Toian Vaughn,
Committee Management Officer, Substance Abuse and Mental Health Services Administration.

[FR Doc. 2010-21240 Filed 8-25-10; 8:45 am]

BILLING CODE 4162-20-P